FEDERAL TRADE COMMISSION

Agency Information Collection Activities; Submission for OMB Review; Comment Request

AGENCY: Federal Trade Commission.

ACTION: Notice.

SUMMARY: The Federal Trade Commission (“FTC” or “Commission”) requests that the Office of Management and Budget (“OMB”) extend for an additional three years the current Paperwork Reduction Act (“PRA”) clearance for the information collection requirements in the Children's Online Privacy Protection Act Rule (“COPPA Rule” or “Rule”). The clearance expires on March 31, 2022.

DATES: Comments must be submitted by March 28, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: Peder Magee, Attorney (202-326-3538), Division of Privacy and Identity Protection, Bureau of Consumer Protection, Federal Trade Commission, 600 Pennsylvania Avenue NW, Washington, DC 20580.

SUPPLEMENTARY INFORMATION: Title: Children's Online Privacy Protection Act Rule, 16 CFR part 312.

OMB Control Number: 3084-0117.

Type of Review: Extension without change of currently approved collection.

Affected Public: Private Sector: Businesses and other for-profit entities.

Abstract: The COPPA Rule requires certain commercial websites and online services to provide notice and obtain parents' consent before collecting, using, and/or disclosing personal information from children under age thirteen, with limited exceptions. The COPPA Rule contains certain statutorily required notice requirements that apply to operators of any website or online service directed to children and operators of any website or online service that have actual knowledge they are collecting personal information from children. The Rule also applies to operators that have actual knowledge that they collect personal information from users of another website or online service that is directed to children. Covered operators must, among other things: Provide online notice and direct notice to parents of how they collect, use, and disclose children's personal information; obtain the prior consent of the child's parent in order to engage in such collection, use, and disclosure, with limited exceptions; provide reasonable means for the parent to obtain access to the information and to direct its deletion; and, establish procedures that protect the confidentiality, security, and integrity of personal information collected from children.

Estimated Annual Burden Hours: 17,600.

Estimated Annual Labor Costs: $5,783,700.

Estimated Annual Non-Labor Costs: $0.

Request for Comment: On October 6, 2021, the Commission sought comment on the information collection requirements associated with the COPPA Rule. 86 FR 55609 (Oct. 6, 2021). No relevant comments were received. Pursuant to the OMB regulations, 5 CFR part 1320, the FTC is providing this second opportunity for public comment while seeking OMB approval to renew clearance for the Rule's information collection requirements.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16 CFR 4.10(a)(2). In particular, do not include competitively sensitive information such as costs, sales statistics, inventories, formulas, patterns devices, manufacturing processes, or customer names.

Josephine Liu,
Assistant General Counsel for Legal Counsel.

[FR Doc. 2022-04063 Filed 2-24-22; 8:45 am]

BILLING CODE 6750-01-P